DEPARTMENT OF COMMERCE

International Trade Administration

[A-570-904]

Certain Activated Carbon From the People's Republic of China: Preliminary Results of Antidumping Duty Administrative Review; 2011-2012

AGENCY: Import Administration, International Trade Administration, Department of Commerce.

SUMMARY: In response to requests from interested parties, the Department of Commerce (“Department”) is conducting the administrative review of the antidumping duty order on certain activated carbon from the People's Republic of China (“PRC”) for the period of review (“POR”) April 1, 2011, through March 31, 2012. The Department has preliminarily determined that sales have been made below normal value (“NV”). Additionally, the Department has preliminarily determined not to revoke the order, in part, with respect to Jacobi Carbons AB (“Jacobi”).

DATES: Effective Date: May 8, 2013.

FOR FURTHER INFORMATION CONTACT: Bob Palmer, Emeka Chukwudebe, and Ricardo Martinez Rivera, AD/CVD Operations, Office 9, Import Administration, International Trade Administration, Department of Commerce, 14th Street and Constitution Avenue NW., Washington, DC 20230; telephone: (202) 482-9068, (202) 482-0219, and (202) 482-4532, respectively.

SUPPLEMENTARY INFORMATION:

Scope of the Order

The merchandise subject to the order is certain activated carbon.¹ The products are currently classifiable under the Harmonized Tariff Schedule of the United States (“HTSUS”) subheading 3802.10.00. Although the HTSUS subheading is provided for convenience and customs purposes, the written description of the scope of the order remains dispositive.²

¹ See “Decision Memorandum for the Preliminary Results of Antidumping Duty Administrative Review: Certain Activated Carbon from the People's Republic of China,” (“Preliminary Decision Memorandum”) from Christian Marsh, Deputy Assistant Secretary for Antidumping and Countervailing Duty Operations, to Paul Piquado, Assistant Secretary for Import Administration, issued concurrently with this notice, for a complete description of the Scope of the Order.

² See Notice of Antidumping Duty Order: Certain Activated Carbon from the People's Republic of China, 72 FR 20988 (April 27, 2007) (“Order”).

Methodology

The Department has conducted this review in accordance with section 751(a)(1)(B) of the Tariff Act of 1930, as amended (“the Act”). Constructed export prices and export prices have been calculated in accordance with section 772 of the Act. Because the PRC is a non-market economy (“NME”) within the meaning of section 771(18) of the Act, NV has been calculated in accordance with section 773(c) of the Act. Specifically, the mandatory respondent's factors of production (“FOPs”) (with the exception of steam) have been valued with prices from a surrogate country which is economically comparable to the PRC and is a significant producer of comparable merchandise.

For a full description of the methodology underlying our conclusions, see the Preliminary Decision Memorandum dated concurrently with these results and hereby adopted by this notice. The Preliminary Decision Memorandum is a public document and is on file electronically via Import Administration's Antidumping and Countervailing Duty Centralized Electronic Service System (“IA ACCESS”). IA ACCESS is available to registered users at http://iaaccess.trade.gov and in the Central Records Unit (“CRU”), room 7046 of the main Department of Commerce building. In addition, a complete version of the Preliminary Decision Memorandum can be accessed directly on the internet at http://www.trade.gov/ia/. The signed Preliminary Decision Memorandum and the electronic versions of the Preliminary Decision Memorandum are identical in content.

Intent Not To Revoke Order In Part

We preliminarily determine ³ that we should not revoke the Order in part with respect to Jacobi under section 751 of the Act, because we find that Jacobi has not satisfied the requirements of 19 CFR 351.222(b).⁴

³ See Preliminary Decision Memorandum, at 5.

⁴ The Department recently modified the section of its regulations concerning the revocation of antidumping and countervailing duty orders in whole or in part, but that modification does not apply to this administrative review as it was initiated before June 20, 2012. See Modification to Regulation Concerning the Revocation of Antidumping and Countervailing Duty Orders, 77 FR 29875 (May 21, 2012). Reference to 19 CFR 351.222(b) thus refers to the Department's regulations prior to the modification.

Verification

As provided in sections 782(i)(3)(A)-(B) of the Act, we intend to verify the information upon which we will rely in determining our final results of review with respect to Jacobi.

Preliminary Results of the Review

The Department has determined that the following preliminary dumping margins exist:

Exporter | Margin (Dollars Per Kilogram) ⁵
Jacobi Group ⁶ | 0.56
Ningxia Huahui Activated Carbon Co., Ltd | 0.29
Calgon Carbon (Tianjin) Co., Ltd | 0.43
Datong Juqiang Activated Carbon Co., Ltd | 0.43
Datong Municipal Yunguang Activated Carbon Co., Ltd | 0.43
Jilin Bright Future Chemicals Company, Ltd | 0.43
Ningxia Guanghua Cherishmet Activated Carbon Co., Ltd.⁷ | 0.43
Ningxia Mineral and Chemical Limited | 0.43
Shanxi DMD Corporation | 0.43
Shanxi Sincere Industrial Co., Ltd | 0.43
Shanxi Industry Technology Trading Co., Ltd | 0.43
Sinoacarbon International Trading Co., Ltd | 0.43
Tancarb Activated Carbon Co., Ltd | 0.43
Tangshan Solid Carbon Co., Ltd | 0.43
Tianjin Maijin Industries Co., Ltd | 0.43
PRC-Wide Rate ⁸ | 2.42

Disclosure and Public Comment

The Department intends to disclose calculations performed for these preliminary results to the parties within five days of the date of publication of this notice in accordance with 19 CFR 351.224(b).

⁵ In the second administrative review of this order, the Department determined that it would calculate per-unit assessment and cash deposit rates for all future reviews. See Certain Activated Carbon From the People's Republic of China: Final Results and Partial Rescission of Second Antidumping Duty Administrative Review, 75 FR 70208, 70211 (November 17, 2010).

⁶ In the third administrative review, the Department found Jacobi, Tianjin Jacobi International Trading Co. Ltd., and Jacobi Carbons Industry (Tianjin) (collectively, “Jacobi Group”) are a single entity and, because there were no changes to the facts which supported that decision, we continued to find these companies part of a single entity in the fourth administrative review. Because there have been no changes to the facts which supported that decision in the present review, we will assign this rate to the companies in the single entity. See Preliminary Decision Memorandum, at 16, at “Affiliation and Collapsing”; see also Certain Activated Carbon From the People's Republic of China: Final Results and Partial Rescission of Third Antidumping Duty Administrative Review, 76 FR 67142 (October 31, 2011); Certain Activated Carbon From the People's Republic of China; 2010-2011; Final Results of Antidumping Duty Administrative Review, 77 FR 67337, 67339 at footnote 22 (November 9, 2012) (“AR4 Carbon”).

⁷ In the first administrative review, the Department found Beijing Pacific Activated Carbon Products Co., Ltd., Ningxia Guanghua Cherishmet Activated Carbon Co., Ltd., and Ningxia Guanghua Activated Carbon Co., Ltd. are a single entity and, because there were no changes to the facts which supported that decision, we continued to find these companies to be part of a single entity in AR4 Carbon. Because there have been no changes to the facts which supported that decision in the present review, we will assign this rate to the companies in the single entity. See Certain Activated Carbon From the People's Republic of China: Notice of Preliminary Results of the Antidumping Duty Administrative Review and Extension of Time Limits for the Final Results, 74 FR 21317 (May 7, 2009), unchanged in First Administrative Review of Certain Activated Carbon from the People's Republic of China: Final Results of Antidumping Duty Administrative Review, 74 FR 57995 (November 10, 2009); AR4 Carbon, 77 FR at 67339 at footnote 23.

⁸ The PRC-Wide entity includes Datong Locomotive Coal & Chemicals Co., Ltd., Ningxia Lingzhou Foreign Trade Co., Ltd. and Shanxi Qixian Foreign Trade Corporation.

In accordance with 19 CFR 351.301(c)(3)(ii), for the final results of this administrative review, interested parties may submit publicly available information to value FOPs within 20 days after the date of publication of these preliminary results. Interested parties must provide the Department with supporting documentation for the publicly available information to value each FOP. Additionally, in accordance with 19 CFR 351.301(c)(1), for the final results of this administrative review, interested parties may submit factual information to rebut, clarify, or correct factual information submitted by an interested party less than ten days before, on, or after, the applicable deadline for submission of such factual information. However, the Department notes that 19 CFR 351.301(c)(1) permits new information only insofar as it rebuts, clarifies, or corrects information recently placed on the record. The Department generally cannot accept the submission of additional, previously absent from the record alternative surrogate value information pursuant to 19 CFR 351.301(c)(1).⁹ Additionally, for each piece of factual information submitted with surrogate value rebuttal comments, the interested party must provide a written explanation of what information is already on the record of the ongoing proceeding which the factual information is rebutting, clarifying, or correcting.

⁹ See Glycine From the People's Republic of China: Final Results of Antidumping Duty Administrative Review and Final Rescission, in Part, 72 FR 58809 (October 17, 2007), and accompanying Issues and Decision Memorandum at Comment 2.

Because, as noted above, the Department intends to verify the information upon which we will rely in making our final determination, the Department will establish the briefing schedule at a later time, and will notify parties of the schedule in accordance with 19 CFR 351.309. Parties who submit case briefs or rebuttal briefs in this proceeding are requested to submit with each argument: (1) A statement of the issue; (2) a brief summary of the argument; and (3) a table of authorities.¹⁰

¹⁰ See 19 CFR 351.309(c) and (d).

Pursuant to 19 CFR 351.310(c), interested parties who wish to request a hearing, or to participate if one is requested, must submit a written request to the Assistant Secretary for Import Administration, within 30 days of the date of publication of this notice. Requests should contain: (1) The party's name, address and telephone number; (2) The number of participants; and (3) A list of issues to be discussed. Issues raised in the hearing will be limited to those raised in the respective case and rebuttal briefs.

Assessment Rates

Upon issuance of the final results, the Department will determine, and U.S. Customs and Border Protection (“CBP”) shall assess, antidumping duties on all appropriate entries covered by this review.¹¹ The Department intends to issue assessment instructions to CBP 15 days after the publication date of the final results of this review. For any individually examined respondent whose weighted average dumping margin is above de minimis (i.e., is 0.50 percent or more) in the final results of this review, the Department will calculate importer-specific assessment rates on the basis of the ratio of the total amount of dumping calculated for the importer's examined sales and the total entered value of sales, in accordance with 19 CFR 351.212(b)(1).¹² We will instruct CBP to assess antidumping duties on all appropriate entries covered by this review when the importer-specific assessment rate calculated in the final results of this review is above de minimis. Where either the respondent's weighted-average dumping margin is zero or de minimis, or an importer-specific assessment rate is zero or de minimis, we will instruct CBP to liquidate the appropriate entries without regard to antidumping duties. For those companies not assigned a separate rate from a prior segment of the proceeding, the Department has stated that they are not separate from the PRC-wide entity and that the administrative review will continue for these companies.¹³

¹¹ See 19 CFR 351.212(b).

¹² In these preliminary results, the Department applied the assessment rate calculation method adopted in Antidumping Proceedings: Calculation of the Weighted-Average Dumping Margin and Assessment Rate in Certain Antidumping Proceedings: Final Modification, 77 FR 8101 (February 14, 2012).

¹³ See footnote 6.

The Department recently announced a refinement to its assessment practice in NME cases. Pursuant to this refinement in practice, for entries that were not reported in the U.S. sales databases submitted by companies individually examined during this review, the Department will instruct CBP to liquidate such entries at the PRC-wide rate. Additionally, if the Department determines that an exporter had no shipments of the subject merchandise, any suspended entries that entered under that exporter's case number (i.e., at that exporter's rate) will be liquidated at the PRC-wide rate.¹⁴

¹⁴ For a full discussion of this practice, see Non-Market Economy Antidumping Proceedings: Assessment of Antidumping Duties, 76 FR 65694 (October 24, 2011).

The final results of this review shall be the basis for the assessment of antidumping duties on entries of merchandise covered by the final results of this review and for future deposits of estimated duties, where applicable.

Cash Deposit Requirements

The following cash deposit requirements will be effective upon publication of the final results of this administrative review for shipments of the subject merchandise from the PRC entered, or withdrawn from warehouse, for consumption on or after the publication date, as provided by sections 751(a)(2)(C) of the Act: (1) For each specific company listed above, the cash deposit rate will be that established in the final results of this review (except, if the rate is zero or de minimis, then zero cash deposit will be required); (2) for previously investigated or reviewed PRC and non-PRC exporters not listed above that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter. These cash deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

This determination is issued and published in accordance with sections 751(a)(1) and 777(i)(1) of the Act and 19 CFR 351.221(b)(4).

Dated: May 2, 2013.
Paul Piquado,
Assistant Secretary for Import Administration.

Appendix—List of Topics Discussed in the Preliminary Decision Memorandum

1. Respondent Selection

2. Questionnaires

3. Scope of the Order

4. Request for Revocation, In Part

5. Withdrawal of Request for Review

6. Non-Market Economy Country

7. Separate Rates

8. Separate Rate Calculation

9. PRC—Wide Entity

10. Surrogate Country and Surrogate Value Data

11. Surrogate Country

12. Economic Comparability

13. Significant Producers of Comparable Merchandise

14. Data Availability

15. Affiliations and Collapsing

16. Facts Available for NV

17. Date of Sale

18. Comparisons to Normal Value

19. U.S. Price

20. Normal Value

21. Use of Facts Available and Adverse Facts Available for EP/CEP

22. Currency Conversion

[FR Doc. 2013-10943 Filed 5-7-13; 8:45 am]

BILLING CODE 3510-DS-P